DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of the program for 7 CFR, part 1951, subpart N, Servicing Cases Where Unauthorized Loan or Other Financial Assistance Was Received—Multiple Family Housing.

DATES: Comments on this notice must be received by June 18, 2001 to be assured of consideration.

FOR FURTHER INFORMATION CONTACT: James E. Vollmer, Senior Loan Specialist, Rural Housing Service, USDA, STOP 0782, Room 1229, South Building, 1400 Independence Avenue, SW., Washington, DC 20250-0742, telephone (202) 720-1060.

Title: “Servicing Cases Where Unauthorized Loan or Other Financial Assistance Was Received—Multiple Family Housing”.

OMB Number: 0575-0104.

Expiration Date of Approval: July 31, 2001.

Type of Request: Intent to extend the currently approved information collection and record keeping requirements.

Abstract: The regulation promulgates the policies and procedures for actions to be taken in cases where unauthorized financial assistance in the form of a loan, grant, interest subsidy benefit created through use of an incorrect interest rate, interest credits, or rental assistance has been extended to a Multiple Family Housing borrower or grantee by RHS.

Estimate of Burden: 1.14 hours per respondent.

Respondents: Individuals, state or local governments, and small businesses or organizations.

Estimated Number of Respondents: 450.

Estimated Number of Responses Per Respondent: 1.5.

Estimated Number of Responses: 700.

Estimated Total Annual Burden on Respondents: 800 hours.

Copies of this information collection can be obtained from Jean Mosley, Regulations and Paperwork Management Branch, at (202) 692-0041.

Comments

Comments are invited on: (a) Whether the proposed collection of information is necessary for the proper performance of the functions of Rural Housing Service, including whether the information will have practical utility; (b) the accuracy of Rural Housing Service's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jean Mosley, United States Department of Agriculture, Stop 0742, 1400 Independence Avenue SW., Washington, DC 20250-0742. All responses to this notice will be summarized and included in the request for OMB approval. All comments will also become a matter of public record.

Dated: April 5, 2001.
James C. Alsop,
Acting Administrator, Rural Housing Service.

[FR Doc. 01-9476 Filed 4-16-01; 8:45 am]

BILLING CODE 3410-XV-U